FEDERAL ELECTION COMMISSION

Sunshine Act Notice

AGENCY: Federal Election Commission.

DATE AND TIME: Thursday, May 26, 2011 at 10 a.m.

PLACE: 999 E Street, NW., Washington, DC (Ninth Floor).

STATUS: This meeting will be open to the public.

ITEMS TO BE DISCUSSED:

Correction and Approval of the Minutes for the Meeting of May 5, 2011.

Policy regarding Disclosure of Documents and Information in the Enforcement Process.

Draft Advisory Opinion 2011-06: Democracy Engine, LLC; Democracy Engine, Inc., PAC; Mr. Jonathan Zucker; and Mr. Erik Pennebaker.

Draft Advisory Opinion 2011-07: Fleischmann for Congress.

Proposed Final Audit Report on the Kansas Republican Party (A08-02).

Management and Administrative Matters.

Individuals who plan to attend and require special assistance, such as sign language interpretation or other reasonable accommodations, should contact Shawn Woodhead Werth, Commission Secretary and Clerk, at (202) 694-1040, at least 72 hours prior to the hearing date.

PERSON TO CONTACT FOR INFORMATION: Judith Ingram, Press Officer, Telephone: (202) 694-1220.

Shawn Woodhead Werth,
Secretary and Clerk of the Commission.

[FR Doc. 2011-12796 Filed 5-20-11; 11:15 am]

BILLING CODE 6715-01-P